SMALL BUSINESS ADMINISTRATION

[Disaster Declaration #16968 and #16969; Georgia Disaster Number GA-00125]

Presidential Declaration Amendment of a Major Disaster for Public Assistance Only for the State of Georgia

AGENCY: U.S. Small Business Administration.

ACTION: Amendment 1.

SUMMARY: This is an amendment of the Presidential declaration of a major disaster for Public Assistance Only for the State of Georgia (FEMA-4600-DR), dated 05/05/2021.

Incident: Severe Storms and Tornadoes.

Incident Period: 03/25/2021 through 03/26/2021.

DATES: Issued on 05/27/2021.

Physical Loan Application Deadline Date: 07/06/2021.

Economic Injury (EIDL) Loan Application Deadline Date: 02/07/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Georgia, dated 05/05/2021, is hereby amended to include the following areas as adversely affected by the disaster.

Primary Counties: Gordon.

All other information in the original declaration remains unchanged.

(Catalog of Federal Domestic Assistance Number 59008)

James Rivera,
Associate Administrator for Disaster Assistance.

[FR Doc. 2021-11741 Filed 6-3-21; 8:45 am]

BILLING CODE 8026-03-P